DEPARTMENT OF DEFENSE

Office of the Secretary

[Docket ID: DoD-2025-OS-0078]

Proposed Collection; Comment Request

AGENCY: Office of the Under Secretary of Defense for Personnel and Readiness (OUSD (P&R)), Department of Defense (DoD).

ACTION: 60-Day information collection notice.

SUMMARY: In compliance with the Paperwork Reduction Act of 1995, the Office of the Under Secretary of Defense for Personnel and Readiness announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by September 5, 2025.

ADDRESSES: You may submit comments, identified by docket number and title, by any of the following methods:

Federal eRulemaking Portal: https://www.regulations.gov. Follow the instructions for submitting comments.

Mail: Department of Defense, Office of the Assistant to the Secretary of Defense for Privacy, Civil Liberties, and Transparency Regulatory Directorate, 4800 Mark Center Drive, Mailbox #24 Suite 05F16, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to ODASD(MC&FP), Mr. Trevor Dean, 1500 Defense Pentagon, Washington, DC 20301, (703) 571-2359.

SUPPLEMENTARY INFORMATION:

Title; Associated Form; and OMB Number: Statement of Disposition of Civilian Remains, DD Form 3004, 0704-AABF.

Needs and Uses: The information collection requirement is necessary to obtain and document the selection (as applicable) of the Person Authorized to Effect Disposition (PAED), who is authorized to direct disposition of human remains of decedents. As stated in 10 United States Code section 1481, ‘Recovery, Care, and Disposition of Remains: Decedents Covered,’ the DoD may provide for the recovery, care, and disposition of the remains for active-duty Regulars, Reserve Component members, applicants, trainees, military prisoners, and others. The DoD is further authorized, per section 1482 and section 1482a to provide reimbursement, cover expenses, or otherwise provide mortuary services for decedents, including civilian employees serving with the armed forces. In order to provide reimbursement or these services, the DoD is charged with electing and documenting the elections of PAED of the remains, to whom the payment/reimbursement is made.

Affected Public: Individuals and households.

Annual Burden Hours: 60.

Number of Respondents: 60.

Responses per Respondent: 1.

Annual Responses: 60.

Average Burden per Response: 1 hour.

Frequency: As required.

Dated: July 2, 2025.
Stephanie J. Bost,
Alternate OSD Federal Register Liaison Officer, Department of Defense.

[FR Doc. 2025-12597 Filed 7-3-25; 8:45 am]

BILLING CODE 6001-FR-P